DEPARTMENT OF COMMERCE

National Oceanic and Atmospheric Administration

50 CFR Part 622

[Docket No. 231101-0256; RTID 0648-XE866]

Fisheries of the South Atlantic; 2025 Recreational Fishing Season Announcement and Closure for Blueline Tilefish in the South Atlantic

AGENCY: National Marine Fisheries Service (NMFS), National Oceanic and Atmospheric Administration (NOAA), Commerce.

ACTION: Temporary rule; recreational fishing season and closure.

SUMMARY: NMFS announces the 2025 recreational fishing season for blueline tilefish in the exclusive economic zone (EEZ) of the South Atlantic. Announcing the length of the recreational fishing season is the accountability measure (AM) for the recreational sector. NMFS estimates that recreational landings of blueline tilefish will reach the recreational annual catch limit (ACL) during the 2025 fishing year. NMFS announces the season length and closure date for the recreational harvest of blueline tilefish in the South Atlantic to allow recreational fishermen to maximize their opportunities while NMFS manages recreational harvest to protect the blueline tilefish resource.

DATES: This temporary rule is effective from July 22 through December 31, 2025.

FOR FURTHER INFORMATION CONTACT: Mary Vara, NMFS Southeast Regional Office, telephone: 727-824-5305, email: mary.vara@noaa.gov.

SUPPLEMENTARY INFORMATION: The snapper-grouper fishery of the South Atlantic includes blueline tilefish and is managed under the Fishery Management Plan for the Snapper-Grouper Fishery of the South Atlantic Region (FMP). The FMP was prepared by the South Atlantic Fishery Management Council and NMFS, approved by the Secretary of Commerce, and is implemented by NMFS under the authority of the Magnuson-Stevens Fishery Conservation and Management Act (Magnuson-Stevens Act) by regulations at 50 CFR part 622.

Regulations at 50 CFR 622.193(z)(2) specify the recreational ACL for blueline tilefish of 116,820 pounds (lb) or 52,989 kilograms (kg) in round weight, and the recreational AM. The recreational AM states that NMFS will project the length of the recreational fishing season for blueline tilefish based on catch rates from the previous fishing year and announce the end date of the recreational season based on when NMFS projects the recreational ACL will be met [50 CFR 622.193(z)(2)]. While the fishing year for blueline tilefish started on January 1, 2025, the recreational season for blueline tilefish harvested in or from the South Atlantic EEZ is closed from January 1 through April 30, and September 1 through December 31 each year [50 CFR 622.183(b)(7)]. Data from the NMFS Southeast Fisheries Science Center informed NMFS' projection that recreational landings of blueline tilefish will reach the recreational ACL for 2025 by July 22. Therefore, the recreational season and harvest of blueline tilefish in the South Atlantic EEZ is closed starting on July 22, 2025, and will continue to be closed through the end of the calendar year. During the recreational closure, the bag and possession limits for blueline tilefish in or from the South Atlantic EEZ are zero. The next recreational fishing season for blueline tilefish begins on May 1, 2026.

Classification

NMFS issues this action pursuant to section 305(d) of the Magnuson-Stevens Act. This action is required by 50 CFR 622.193(z)(2), which was issued pursuant to section 304(b) of the Magnuson-Stevens Act, and is exempt from review under Executive Order 12866.

Pursuant to 5 U.S.C. 553(b)(B), there is good cause to waive prior notice and an opportunity for public comment on this action, as notice and comment are unnecessary and contrary to the public interest. Such procedures are unnecessary because the rule that established the recreational ACL and AM for blueline tilefish has already been subject to notice and comment, and all that remains is for NMFS to notify the public of the end date of the recreational season. Such procedures are contrary to the public interest because of the need to immediately implement this action to protect the blueline tilefish stock. NMFS estimates that the recreational ACL will be reached in 2025 and prior notice and opportunity for public comment would require additional time, potentially resulting in a harvest in excess of the established ACL.

For the reasons just stated, there is also good cause to waive the 30-day delay in the effectiveness of this action under 5 U.S.C. 553(d)(3).

Authority: 16 U.S.C. 1801 et seq.

Dated: May 12, 2025.
Kelly Denit,
Director, Office of Sustainable Fisheries, National Marine Fisheries Service.

[FR Doc. 2025-08723 Filed 5-15-25; 8:45 am]

BILLING CODE 3510-22-P